DEPARTMENT OF JUSTICE

[AAG/A Order No. 031-2007]

Privacy Act of 1974; System of Records

AGENCY: Justice Management Division, Department of Justice.

ACTION: Modification to System of Records Notice.

SUMMARY: The Justice Management Division, Department of Justice, is making minor editorial changes and updates to a system of records notice entitled “Department of Justice (DOJ) Employee Transportation Facilitation System, Justice/JMD-017,” last published in the Federal Register on April 24, 2001, at 66 FR 20683.

EFFECTIVE DATE: Public comment and notification to Congress and the Office of Management and Budget are not required for these minor administrative changes. Therefore, the modifications to this system of records will be effective September 25, 2007.

SUPPLEMENTARY INFORMATION: The changes in the text of the notice entitled “Department of Justice (DOJ) Employee Transportation Facilitation System, Justice/JMD-017” are shown below.

FOR FURTHER INFORMATION CONTACT: Joo Chung, Counsel, Privacy and Civil Liberties Office, Office of the Deputy Attorney General, on 202-514-4921.

Dated: September 14, 2007.
Lee J. Lofthus,
Assistant Attorney General for Administration.

JUSTICE/JMD-017

SYSTEM NAME:

Department of Justice (DOJ) Employee Transportation Management System.

* * * * *

ROUTINE USES OF RECORDS MAINTAINED IN THE SYSTEM, INCLUDING CATEGORIES OF USERS AND THE PURPOSES OF SUCH USES:

* * * * *

(2) To the National Archives and Records Administration in records management inspections conducted under the authority of Title 44 U.S.C. 2904 and 2906;

* * * * *

(7) (f) Upon request, either the name(s) of non-federal employees, a list of names or a list which includes their name(s). * * *

* * * * *

POLICIES AND PRACTICES FOR STORING, RETRIEVING, ACCESSING, RETAINING, AND DISPOSING OF RECORDS IN THE SYSTEM:

STORAGE:

Records are stored in hard copy form and/or electronically.

* * * * *

RETENTION AND DISPOSAL:

* * * [REMOVE THE LAST TWO SENTENCES OF THIS PARAGRAPH AND INSERT THE TEXT BELOW AS THE LAST SENTENCE OF THE PARAGRAPH.]

Documents in either paper or electronic form relating to the disbursement of transportation pre-tax benefits to employees shall be destroyed after seven years as approved by the National Archives and Records Administration.

* * * * *

RECORD ACCESS PROCEDURES:

Except as otherwise noted, employees of the Offices, Boards, and Divisions (listed in appendix I of part 16, 28 CFR) may appear in person or address their requests for access to: Employee Transportation Coordinator, Facilities and Administrative Services Staff, Justice Management Division, NPB Suite 1070, Department of Justice, Washington, DC 20530.

Except as otherwise noted, employees of the bureaus (listed in appendix I of Part 16, 28 CFR) may appear in person or address their requests for access to the following bureau officials, attention Employee Transportation Coordinator: Director, Bureau of Alcohol, Tobacco, Firearms, and Explosives, 650 Massachusetts Avenue, NW., Washington, DC, 20226.

* * *

* * *

* * *

[DELETE: Commissioner, Immigration and Naturalization Service, 425 Eye Street, NW., Washington, DC 20536]

* * *

* * *

* * * * *

[FR Doc. E7-18817 Filed 9-24-07; 8:45 am]

BILLING CODE 4410-CW-P